DEPARTMENT OF AGRICULTURE

Food and Nutrition Service

Submission for OMB Review; Comment Request

August 22, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by September 26, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: CACFP National Disqualified List—Forms FNS-843 and FNS-844.

OMB Control Number: 0584-0584.

Summary of Collection: Section 17 of the National School Lunch Act, as amended (42 U.S.C. 1766), authorizes the Child and Adult Care Food Program (CACFP). Section 243(c) of Public Law 106-224, the Agricultural Risk Protection Act of 2000, amended section 17(d)(5) of the Richard B. Russell National School Lunch Act (NSLA) (42 U.S.C. 1766(d)(5)(E)(i) and (ii)) by requiring the Department of Agriculture to maintain a list of institutions, day care home providers, and individuals that have been terminated or otherwise disqualified from CACFP participation. The law also requires the Department to make the list available to State agencies for their use in reviewing applications to participate and to sponsoring organizations to ensure that they do not employ as principals any persons who are disqualified from the program. This statutory mandate has been incorporated into § 226.6(c)(7) of the Program regulations.

Need and Use of the Information: The Food and Nutrition Service (FNS) uses forms FNS-843 Report of Disqualification from Participation—Institution and Responsible Principals/Individuals and FNS-844 Report of Disqualification from Participation—Individually Disqualified Responsible Principal/Individual or Day Care Home Provider to collect and maintain the disqualification data. The State agencies use these forms, which are accessed through a web-based National Disqualification List system, to collect the contact information and the disqualification information and reasons on all individuals and institutions that have been disqualified and are therefore ineligible to participate in CACFP. The information is collected from State agencies as the disqualifications occur so that the list is kept current. By maintaining this list, the Department ensures program integrity by making the list available to sponsoring organizations and State agencies so that no one who has been disqualified can participate in CACFP. Without this data collection, State agencies and sponsoring organizations would have no way of knowing if an applicant has been disqualified from participating in CACFP in another State.

Description of Respondents: State, Local, or Tribal Government.

Number of Respondents: 56.

Frequency of Responses: Reporting: On occasion; Other (as needed).

Total Burden Hours: 784.

Ruth Brown,
Departmental Information Collection Clearance Officer.

[FR Doc. 2016-20371 Filed 8-24-16; 8:45 am]

BILLING CODE 3410-30-P